ENVIRONMENTAL PROTECTION AGENCY

[FRL-10001-15-OA]

Notification of a Public Meeting and Two Public Teleconferences of the Science Advisory Board Computable General Equilibrium Model Review Panel

AGENCY: Environmental Protection Agency (EPA).

ACTION: Announcement of a public meeting and two teleconferences.

SUMMARY: The Environmental Protection Agency (EPA) Science Advisory Board (SAB) Staff Office announces a public meeting and two public teleconferences of the SAB Computable General Equilibrium (CGE) Model Review Panel to discuss its review of a CGE model from the EPA's National Center for Environmental Economics.

DATES: The public meeting will be held on November 22, 2019, from 8:30 a.m. to 5:30 p.m. (Eastern Time). The public teleconferences will be held on December 12, 2019, from 12:00 p.m.-3:00 p.m. (Eastern Time) and January 31, 2020, from 10:00 a.m.-1:00 p.m.

Location: The public meeting will be held at the Residence Inn, 2850 South Potomac Avenue, Arlington, VA 22202. The public teleconferences will be held by telephone only.

FOR FURTHER INFORMATION CONTACT: Any member of the public wishing further information regarding the public teleconference may contact Dr. Holly Stallworth, Designated Federal Officer (DFO), SAB Staff Office, by telephone at (202) 564-2073 or email at stallworth.holly@epa.gov. The SAB mailing address is U.S. EPA Science Advisory Board (1400R), U.S. Environmental Protection Agency, 1200 Pennsylvania Avenue NW, Washington, DC 20460. General information about the SAB, including information concerning the SAB teleconference announced in this notice, can be found at the SAB web page at http://epa.gov/sab.

SUPPLEMENTARY INFORMATION:

Background: The SAB was established pursuant to the Environmental Research, Development, and Demonstration Authorization Act (ERDAA) codified at 42 U.S.C. 4365, to provide independent scientific and technical peer review, advice, consultation, and recommendations to the EPA Administrator on the technical basis for Agency positions and regulations. The SAB is a Federal Advisory Committee chartered under the Federal Advisory Committee Act (FACA), 5 U.S.C., App. 2. The SAB will comply with the provisions of FACA and all appropriate SAB Staff Office procedural policies. Pursuant to FACA and EPA policy, notice is hereby given that the SAB CGE Model Review Panel will hold a public meeting and two public teleconferences to discuss its review of a CGE model from EPA's National Center for Environmental Economics. The Panel will provide advice to the Administrator through the chartered SAB. Background information on the SAB CGE Model Review Panel can be found at https://yosemite.epa.gov/sab/sabproduct.nsf/02ad90b136fc21ef85256eba00436459/18a2abac2e4b5ec9852583bc004ce70a!OpenDocument. Another Federal Register Notice (84 FR 38252-38253) announced a public orientation teleconference held on August 22, 2019.

The public meeting on November 22, 2019, will allow the CGE Model Review Panel to discuss its responses to charge questions from the National Center for Environmental Economics. Preliminary draft responses to charge questions from individual panelists will be posted at the meeting web page prior to the meeting. To find the web page, go to http://epa.gov/sab, click on the calendar then click on the meeting date. The public teleconference on December 12, 2019, will allow the CGE Model Review Panel to continue its discussions of responses to NCEE's charge questions and the public teleconference on January 31, 2020 will allow the CGE Model Review Panel to resolve any final issues regarding the language in its draft report.

All draft reports developed by SAB panels, committees or workgroups are reviewed and approved by the Chartered SAB through a quality review process before being finalized and transmitted to the EPA Administrator.

Availability of the meeting and teleconference materials: For each meeting or teleconference, the web page may be found by going to http://epa.gov/sab, clicking on “Upcoming and Recent Meeting” then clicking on the calendar then clicking on the meeting date. An agenda will be posted prior to each meeting as well as any draft individual comments or draft panel report. All materials from EPA, including presentations and the charge questions, may be found on these web pages as well. The CGE model source code and documentation as well as memos on model versioning and potential near-term model improvements will be posted. While the source code and documentation will be available to the public, some of the data to run the model is proprietary and would have to be purchased from The IMPLAN Group LLC (implan.com). Instructions and source code to build the model's dataset from the IMPLAN data are posted. For questions concerning EPA's review materials on its CGE model, please contact Dr. Ann Wolverton, EPA National Center for Environmental Economics at wolverton.ann@epa.gov or 202-566-2278.

Procedures for Providing Public Input: Public comment for consideration by EPA's federal advisory committees and panels has a different purpose from public comment provided to the EPA program offices. Therefore, the process for submitting comments to a federal advisory committee is different from the process used to submit comments to an EPA program office.

Federal advisory committees and panels, including scientific advisory committees, provide independent advice to the EPA. Members of the public can submit relevant comments on the topic of this advisory activity, including the charge to the panel and the EPA review documents, and/or the group conducting the activity, for the SAB to consider during the advisory process. Input from the public to the SAB will have the most impact if it consists of comments that provide specific scientific or technical information or analysis for the SAB panel to consider or if it relates to the clarity or accuracy of the technical information.

Oral Statements: In general, individuals or groups requesting an oral presentation at the will be limited to five minutes per speaker. Interested parties should contact Dr. Holly Stallworth, DFO, in writing (preferably via email), at the contact information noted above by November 15, 2019, to be placed on the list of public speakers for the public meeting. For the public teleconferences, deadlines for contacting Dr. Stallworth to be placed on the list of speakers are December 5, 2019, and January 25, 2020, respectively.

Written Statements: Written statements will be accepted throughout the advisory process; however, for timely consideration by Panel members, statements should be supplied to the DFO (preferably via email) at the contact information noted above by November 15, 2019, for consideration at the public meeting on November 22, 2019. For the public teleconferences, the deadlines for submitting written comments are December 5, 2019, and January 25, 2020, respectively. It is the SAB Staff Office general policy to post written comments on the web page for the advisory meeting or teleconference. Submitters are requested to provide an unsigned version of each document because the SAB Staff Office does not publish documents with signatures on its website. Members of the public should be aware that their personal contact information, if included in any written comments, may be posted to the SAB website. Copyrighted material will not be posted without explicit permission of the copyright holder.

Accessibility: To request accommodation of a disability, please contact Dr. Stallworth at 202-564-2073 or stallworth.holly@epa.gov. To request accommodation of a disability please contact Dr. Stallworth, preferably at least ten days prior to the teleconference, to give the EPA as much time as possible to process your request.

Dated: October 7, 2019.
Khanna Johnston,
Deputy Director, EPA Science Advisory Board Staff Office.

[FR Doc. 2019-23524 Filed 10-25-19; 8:45 am]

BILLING CODE 6560-50-P